DEPARTMENT OF DEFENSE

Office of the Secretary

[Docket ID: DOD-2024-OS-0151]

Proposed Collection; Comment Request

AGENCY: Office of the Under Secretary of Defense for Personnel and Readiness (OUSD (P&R)), Department of Defense (DoD).

ACTION: 60-Day information collection notice.

SUMMARY: In compliance with the Paperwork Reduction Act of 1995, the OUSD P&R announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 7, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing at http://www.regulations.gov as they are received without change, including any personal identifiers or contact information.

FOR FURTHER INFORMATION CONTACT: To request more information on this proposed information collection or to obtain a copy of the proposal and associated collection instruments, please write to Office of the Under Secretary of Defense, Military Personnel Policy, 1500 Defense Pentagon, Washington, DC 20301-4000, Ronald Garner (703) 693-1059.

SUPPLEMENTARY INFORMATION:

Title; Associated Form; and OMB Number: Combat Related Special Compensation and Reconsideration Forms; DD 2860, DD3210; OMB Control Number 0704-CRSC.

Needs and Uses: This information collection requirement is necessary for both the initial review of information and determination of eligibility benefits for the CRSC Program, and to obtain and record additional information for reconsideration into the CRSC Program if the Service Member has been previously denied entry due to failure to meet program criteria. The reconsideration form is used to gain and collect new and substantive documentation that supports the request of the Service Members qualifications for the CRSC Program.

Affected Public: Individuals or households.

Annual Burden Hours: 5,625.

Number of Respondents: 22,500.

Responses per Respondent: 1.

Annual Responses: 22,500.

Average Burden per Response: 15 minutes.

Frequency: As required.

Dated: December 30, 2024.
Stephanie J. Bost,
Alternate OSD Federal Register Liaison Officer, Department of Defense.

[FR Doc. 2024-31665 Filed 1-3-25; 8:45 am]

BILLING CODE 6001-FR-P